DEPARTMENT OF HEALTH AND HUMAN SERVICES

Food and Drug Administration

[Docket No. FDA-2024-D-0361]

Development of Monoclonal Antibody Products Targeting SARS-CoV-2 for Emergency Use Authorization; Guidance for Industry; Correction

AGENCY: Food and Drug Administration, HHS.

ACTION: Correction.

SUMMARY: The Food and Drug Administration (FDA) is correcting a notice that appeared in the Federal Register on December 21, 2023. The document announced the availability of a final guidance for industry entitled “Development of Monoclonal Antibody Products Targeting SARS-CoV-2 for Emergency Use Authorization.” The document was published with an incorrect docket number. This document corrects that error.

FOR FURTHER INFORMATION CONTACT: Maria Clary, Center for Drug Evaluation and Research, Food and Drug Administration, 10903 New Hampshire Ave., Bldg. 75, Rm. 4638, Silver Spring, MD 20993-0002, 240-402-8615.

SUPPLEMENTARY INFORMATION: In the Federal Register of December 21, 2023 (88 FR 88401), in FR Doc. 2023-28092, the following correction is made:

1. On page 88401, in the first column in the header of the document, and in the ADDRESSES section, in the second and third lines of the first paragraph, the Docket No. is corrected to read “Docket No. FDA-2024-D-0361.”

Dated: January 25, 2024.
Lauren K. Roth,
Associate Commissioner for Policy.

[FR Doc. 2024-01836 Filed 1-30-24; 8:45 am]

BILLING CODE 4164-01-P